DEPARTMENT OF HOMELAND SECURITY

8 CFR Parts 214 and 274a

[CIS No. 2719-22]

RIN 1615-AC79

DEPARTMENT OF LABOR

Employment and Training Administration

20 CFR Part 655

[DOL Docket No. ETA-2022-0004]

RIN 1205-AC10

Exercise of Time-Limited Authority To Increase the Numerical Limitation for Second Half of FY 2022 for the H-2B Temporary Nonagricultural Worker Program and Portability Flexibility for H-2B Workers Seeking To Change Employers; Correction

AGENCY: U.S. Citizenship and Immigration Services (USCIS), Department of Homeland Security (DHS), and Employment and Training Administration and Wage and Hour Division, U.S. Department of Labor (DOL).

ACTION: Temporary final rule; correction.

SUMMARY: On May 18, 2022, the Department of Homeland Security and Department of Labor jointly published a temporary final rule titled “Exercise of Time-Limited Authority to Increase the Numerical Limitation for Second Half of FY 2022 for the H-2B Temporary Nonagricultural Worker Program and Portability Flexibility for H-2B Workers Seeking To Change Employers.” The fourth amendatory instruction to the DHS regulatory text contained a typo. This document corrects that typo.

DATES: Effective on May 18, 2022.

FOR FURTHER INFORMATION CONTACT: Samantha Deshommes, Chief, Regulatory Coordination Division, Office of Policy and Strategy, U.S. Citizenship and Immigration Services, Department of Homeland Security, 5900 Capital Gateway Drive, Camp Springs, MD 20746; telephone 240-721-3000 (this is not a toll-free number).

SUPPLEMENTARY INFORMATION: In FR Doc. 2022-10631, appearing in the first column on page 30377 in the Federal Register of Wednesday, May 18, 2022, the following correction is made:

§ 274a.12 [Corrected]

1. On page 30377, in the first column, in part 274a, in amendment 4, the instruction “Effective May 18, 2022 through May 18, 2025, amend § 274a.12 by adding paragraph (b)(31) to read as follows” is corrected to read “Effective May 18, 2022 through May 18, 2025, amend § 274a.12 by adding paragraph (b)(32) to read as follows:”.

Christina E. McDonald,
Federal Register Liaison, U.S. Department of Homeland Security.
Laura Dawkins,
Federal Register Liaison, U.S. Department of Labor.

[FR Doc. 2022-11132 Filed 5-20-22; 8:45 am]

BILLING CODE 9111-97-P